DEPARTMENT OF DEFENSE

Department of the Army; Corps of Engineers

Coastal Engineering Research Board

AGENCY: Department of the Army, U.S. Army Corps of Engineers, DoD.

ACTION: Notice of open meeting.

SUMMARY: In accordance with section 10(a)(2) of the Federal Advisory Committee Act (Pub. L. 92-463), announcement is made of the following committee meeting:

Name of Committee: Coastal Engineering Research Board (CERB).

Date of Meeting: June 16-18, 2003.

Place: The Hilton, Lafayette, Lafayette, Louisiana.

Time: 2 p.m. to 6 p.m. (June 16, 2002); 8 a.m. to 4:45 p.m. (June 17, 2002); 8 a.m. to 11 a.m. (June 18, 2003).

FOR FURTHER INFORMATION CONTACT: Inquiries and notice of intent to attend the meeting may be addressed to Thomas W. Richardson, Acting Executive Secretary, Coastal and Hydraulics Laboratory, U.S. Army Engineer Research and Development Center, Waterways Experiment Station, 3909 Halls Ferry Road, Vicksburg, MS 39180-6199.

SUPPLEMENTARY INFORMATION: Proposed Agenda: The theme of the meeting is “Louisiana Coastal Area Ecosystem Restoration.” On Monday, June 16, members of the Board will tour the Louisiana Coastal are a via helicopter. On Tuesday, June 17, presentations will be made pertaining to the theme. The presentations include: “Coastal Engineering Priorities from the Louisiana Governor's Office Perspective,” “Overview of the Louisiana Comprehensive Coast-wide Ecosystem Restoration Study,” “Coastal Engineering Research Needs—The State Perspective,” Louisiana Coastal Area (LCA) Study Hydrodynamic and Ecological Modeling,” Technology Needs: Lessons Learned from Feasibility Study and Process for Identifying Future Needs,” “Coastal Engineering Needs for the Louisiana Coastal Zone,” National Technical Review Committee Research Needs,” “Science Needs in Coastal Louisiana,” and “LCA-Related Coastal Engineering Research Needs at the Macro Scale.” On Wednesday, June 18, the Board will meeting in an Executive Session.

These meetings are open to the public; participation by the public is scheduled for 4 p.m. on June 17.

The entire meeting is open to the public, but since searing capacity of the meeting room is limited, advance notice of intent to attend, although not required, is requested in order to assure adequate arrangements. Oral participation by public attendees is encouraged during the time scheduled on the agenda; written statements may be submitted prior to the meeting or up to 30 days after the meeting.

Thomas W. Richardson,
Director, Coastal and Hydraulics Laboratory, Acting Executive Secretary.

[FR Doc. 03-13598 Filed 5-29-03; 8:45 am]

BILLING CODE 3710-61-M